SURFACE TRANSPORTATION BOARD

[Docket No. FD 35990]

RSL Railroad, LLC—Lease Exemption Containing Interchange Commitment—Norfolk Southern Railway Company

RSL Railroad, LLC (RSL), a Class III rail carrier, has filed a verified notice of exemption under 49 CFR 1150.41 to continue to lease and operate a rail line from Norfolk Southern Railway Company (NSR), known as the South Massillon IT (the Line). The Line extends between RSL's existing connection with NSR at milepost MT 1.4, and the proposed future interchange with NSR at milepost MT 0.0, in Massillon, OH.¹

¹ RSL was previously granted authority to lease and operate the Line pursuant to a lease agreement with NSR. See RSL R.R., LLC—Lease & Operation Exemption—Norfolk S. Ry., FD 35754 (STB served Aug. 23, 2013).

RSL states that NSR and RSL have entered into an amendment to their prior lease agreement. RSL states that, at its request, the amendment modifies the lease rental provisions of the lease agreement to permit RSL to receive a lease credit against its fixed rental payment for each revenue carload it interchanges with NSR on the Line. RSL states that it requested the amendment to provide it the ability to earn a lower rental payment and to afford it the opportunity to invest in improvements on the Line to increase traffic levels.²

² RSL has filed the lease agreement under seal pursuant to 49 CFR 1150.43(h)(1)(ii).

RSL has certified that its projected annual revenues as a result of the proposed transaction will not result in RSL becoming a Class II or Class I rail carrier. RSL has further certified that its projected annual rail freight revenues, including the line to be operated pursuant to this notice, would not exceed $5 million.

The transaction may be consummated on or after February 11, 2016, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than February 4, 2016 (at least 7 days before the exemption becomes effective).

An original and 10 copies of all pleadings, referring to Docket No. FD 35990, must be filed with the Surface Transportation Board, 395 E Street SW., Washington, DC 20423-0001. In addition, a copy of each pleading must be served on Andy A. Ginella, 4096 Holiday St. NW., Canton, OH 44718.

According to RSL, this action is categorically excluded from environmental review under 49 CFR 1105.6(c).

Board decisions and notices are available on our Web site at WWW.STB.DOT.GOV.

Decided: January 22, 2016.
By the Board, Rachel D. Campbell, Director, Office of Proceedings.
Kenyatta Clay,
Clearance Clerk.

[FR Doc. 2016-01662 Filed 1-27-16; 8:45 am]

BILLING CODE 4915-01-P